DEPARTMENT OF HOUSING AND URBAN DEVELOPMENT

[Docket No. FR-7060-N-07]

60-Day Notice of Proposed Information Collection: 2023 American Housing Survey; OMB Control No.: 2528-0017

AGENCY: Office of the Policy Development and Research, HUD.

ACTION: Notice.

SUMMARY: HUD is seeking approval from the Office of Management and Budget (OMB) for the information collection described below. In accordance with the Paperwork Reduction Act, HUD is requesting comment from all interested parties on the proposed collection of information. The purpose of this notice is to allow for 60 days of public comment.

DATES: Comments Due Date: November 18, 2022.

ADDRESSES: Interested persons are invited to submit comments regarding this proposal. Comments should refer to the proposal by name and/or OMB Control Number and should be sent to: Anna P. Guido, Reports Management Officer, REE, Department of Housing and Urban Development, 451 7th Street SW, Room 8210, Washington, DC 20410-5000; telephone 202-402-5535 (this is not a toll-free number) or email at Anna.P.Guido@hud.gov for a copy of the proposed forms or other available information. Persons with hearing or speech impairments may access this number through TTY by calling the toll-free Federal Relay Service at (800) 877-8339.

FOR FURTHER INFORMATION CONTACT: Anna P. Guido, Reports Management Officer, REE, Department of Housing and Urban Development, 451 7th Street SW, Washington, DC 20410-5000; email Anna P. Guido at Anna.P.Guido@hud.gov or telephone 202-402-5535 (this is not a toll-free number). Persons with hearing or speech impairments may access this number through TTY by calling the toll-free Federal Relay Service at (800) 877-8339. Copies of available documents submitted to OMB may be obtained from Ms. Guido.

SUPPLEMENTARY INFORMATION: This notice informs the public that HUD is seeking approval from OMB for the information collection described in section A.

A. Overview of Information Collection

Title of Information Collection: 2023 American Housing Survey.

OMB Approval Number: 2528-0017.

Type of Request: Revision of a currently approved collection.

Form Number: N/A.

Description of the Need for the Information and Proposed Use: The purpose of the American Housing Survey (AHS) is to supply the public with detailed and timely information about housing quality, housing costs, and neighborhood assets, in support of effective housing policy, programs, and markets. Title 12, United States Code, sections 1701Z-1, 1701Z-2(g), and 1710Z-10a mandates the collection of this information.

Like the previous surveys, the 2023 AHS will collect “core” data on subjects, such as the amount and types of changes in the housing inventory, the physical condition of the housing inventory, the characteristics of the occupants, housing costs for owners and renters, the persons eligible for and beneficiaries of assisted housing, remodeling and repair frequency, reasons for moving, the number and characteristics of vacancies, and characteristics of resident's neighborhood. In addition to the “core” data, HUD plans to collect supplemental data on potential health and safety hazards in the home, difficulties affording housing costs, including forced moves and temporary housing situations, urbanization of the neighborhood, sexual orientation and gender, parent's country of birth and previous home ownership, housing characteristics that increase heat vulnerability, and experience and consequences of power outages.

The AHS national longitudinal sample consists of approximately 96,000 housing units, and includes oversample from the largest 15 metropolitan areas and approximately 12,000 HUD-assisted housing units. In addition to the national longitudinal sample, HUD plans to conduct 10 additional metropolitan area longitudinal samples, each with approximately 3,000 housing units (for a total of 32,535 metropolitan area housing units). The 10 additional metropolitan area longitudinal samples were last surveyed in 2019. Around 7 percent of all interviews will be reinterviewed for the purpose of interviewer quality control (for a total of 8,997 housing units).

To help reduce respondent burden on households in the longitudinal sample, the 2023 AHS will make use of dependent interviewing techniques, which will decrease the number of questions asked. Policy analysts, program managers, budget analysts, and Congressional staff use AHS data to advise executive and legislative branches about housing conditions and the suitability of public policy initiatives. Academic researchers and private organizations also use AHS data in efforts of specific interest and concern to their respective communities.

The Department of Housing and Urban Development (HUD) needs the AHS data for the following two reasons:

1. With the data, policy analysts can monitor the interaction among housing needs, demand and supply, as well as changes in housing conditions and costs, to aid in the development of housing policies and the design of housing programs appropriate for different target groups, such as first-time home buyers and the elderly.

2. With the data, HUD can evaluate, monitor, and design HUD programs to improve efficiency and effectiveness.

Members of affected public: Households.

Estimated number of respondents: 137,532.

Estimated time per response: 30.477 minutes.

Frequency of response: One time every two years.

Estimated total annual burden hours: 69,859.

Estimated total annual cost: The only cost to respondents is that of their time. The total estimated cost is $69,000,000.

Respondent's obligation: Voluntary.

Legal authority: The collection of information is conducted under title 12, United States Code, section 1701z and section 3507 of the Paperwork Reduction Act of 1995, 44 U.S.C. 35, as amended.

Information collection | Number of respondents | Frequency of response | Responses per annum | Burden hour per response | Annual burden hours | Hourly cost per response | Annual cost
Occupied Interviews | 87,404.00 | 1.00 | 87,404.00 | .77 | 67,301.00 | $0.00 | $0.00
Vacant Interviews | 12,853.00 | 1.00 | 12,853.00 | .08 | 1,028.00 | 0.00 | 0.00
Non-interviews | 24,422.00 | 1.00 | 24,422.00 | .00 | 0.00 | 0.00 | 0.00
Ineligible | 3,856.00 | 1.00 | 3,856.00 | .00 | 0.00 | 0.00 | 0.00
Subtotal | 128,535.00 | 1.00 | 128,535.00 | .00 | .00 | 0.00 | 0.00
Reinterviews | 8,997.00 | 1.00 | 8,997.00 | .17 | 1,530.00 | 0.00 | 0.00
Total | 137,532.00 |  | 137,532.00 |  | 69,859.00 |  |

B. Solicitation of Public Comment

This notice solicits comments from members of the public and affected parties concerning the collection of information described in section A on the following:

1. Whether the proposed collection of information is necessary for the proper performance of the functions of the agency, including whether the information will have practical utility;

2. The accuracy of the agency's estimate of the burden of the proposed collection of information;

3. Ways to enhance the quality, utility, and clarity of the information to be collected; and

4. Ways to minimize the burden of the collection of information on those who are to respond, including the use of appropriate automated collection techniques or other forms of information technology, e.g., permitting electronic submission of responses.

HUD encourages interested parties to submit comment in response to these questions.

C. Authority

Section 3507 of the Paperwork Reduction Act of 1995, 44 U.S.C. chapter 35 and title 42 U.S.C. 5424 note, title 13 U.S.C. 8(b), and title 12, U.S.C. 1701z-1.

Solomon J. Greene,
Principal Deputy Assistant Secretary for Policy Development and Research.

[FR Doc. 2022-20224 Filed 9-16-22; 8:45 am]

BILLING CODE 4210-67-P